DEPARTMENT OF HOMELAND SECURITY

Federal Emergency Management Agency

44 CFR Part 64

[Docket ID FEMA-2016-0002; Internal Agency Docket No. FEMA-8435]

Suspension of Community Eligibility

Correction

§ 64.6 [Corrected]

In rule document 2016-12123, appearing on pages 32660-32664, in the issue of Tuesday, May 24, 2016, make the following correction:

On page 32661, in the first column of the table, the entry “Region III” should read “Region I”.

[FR Doc. C1-2016-12123 Filed 6-8-16; 8:45 am]

BILLING CODE 1505-01-D